DEPARTMENT OF THE INTERIOR

National Park Service

[NPS-WASO-NAGPRA-13011; PPWOCRADN0-PCU00RP14.R50000]

Notice of Inventory Completion: U.S. Department of Agriculture, Forest Service, San Juan National Forest, Durango, CO

AGENCY: National Park Service, Interior.

ACTION: Notice.

SUMMARY: The U.S. Department of Agriculture (USDA), Forest Service, San Juan National Forest has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the San Juan National Forest. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the San Juan National Forest at the address in this notice by July 8, 2013.

ADDRESSES: Julie Coleman, Heritage Program Manager, San Juan National Forest, 15 Burnett Court, Durango, CO 81301, telephone (970) 385-1250, email jacoleman@fs.fed.us.

SUPPLEMENTARY INFORMATION: Notice is here given in accordance with the Native American Graves Protection and Repatriation Act (NAGPRA), 25 U.S.C. 3003, of the completion of an inventory of human remains and associated funerary objects under the control of the USDA Forest Service, San Juan National Forest, Durango, CO. The human remains and associated funerary objects were removed from lands managed by the USDA Forest Service in LaPlata County, CO.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains and associated funerary objects was made by the USDA Forest Service; Peabody Museum of Archaeology and Ethnology at Harvard University; University of Colorado Museum of Natural History, Boulder; Fort Lewis College; and Mesa Verde National Park professional staffs, along with a team of research consultants, in consultation with representatives of the Hopi Tribe of Arizona; Jicarilla Apache Nation, New Mexico; Kewa Pueblo, New Mexico (previously listed as the Pueblo of Santo Domingo); Navajo Nation, Arizona, New Mexico & Utah; Ohkay Owingeh, New Mexico (previously listed as the Pueblo of San Juan); Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; Southern Ute Indian Tribe of the Southern Ute Reservation, Colorado; Ute Indian Tribe of the Uintah & Ouray Reservation, Utah; Ute Mountain Tribe of the Ute Mountain Reservation, Colorado, New Mexico & Utah; Ysleta del Sur Pueblo of Texas; and the Zuni Tribe of the Zuni Reservation, New Mexico.

History and Description of the Remains

Between 1937 and 1938, human remains representing, at minimum, 49 individuals were removed from the Falls Creek Rock Shelters (site 5LP1434), in Animas Valley, north of Durango, in LaPlata County, CO. In 1937, I. F. “Zeke” Flora conducted excavations without a permit in the burial crevice of the Falls Creek Rock Shelters, on lands managed by the USDA Forest Service. In 1938, Earl Morris, Department of Archaeology, The Carnegie Institution, conducted excavations in the north and south cave shelters of Falls Creek Rock Shelters, under permit by the USDA. In addition to the human remains and associated funerary objects described in this notice, unassociated funerary objects were removed from the burial crevice and north cave shelter and are the subject of a separate Notice of Intent to Repatriate Cultural Items published in the Federal Register.

A portion of the Flora collection at the Falls Creek Rock Shelters was housed at the Durango Public Library, Durango, CO. In 1945, it was transferred into the custody of the Mesa Verde National Park at the request of the Forest Service. Flora transferred additional items he collected at the Falls Creek Rock Shelters into the custody of the Mesa Verde National Park between 1962 and 1963. In November 2009, Mesa Verde National Park transferred these items to the Anasazi Heritage Center in Dolores, CO, where they are currently located. Additionally, in 1999, USDA Forest Service Law Enforcement seized a hide robe from Flora's daughter that had been collected by Flora at the Falls Creek Rock Shelters. Subsequently, in 2009, Bureau of Land Management Law Enforcement seized items in the custody of Vern Crites of Durango, CO, that were removed by Flora in 1937 at the Falls Creek Rock Shelters. Finally, in 2011, the Center for Southwest Studies, Fort Lewis College, transferred to the Anasazi Heritage Center a necklace that had been excavated by Flora at the Falls Creek Rock Shelters and given to Fort Lewis College by Helen Sloan Daniels.

The Morris collection at the Falls Creek Rock Shelters, as well as a portion of the Flora collection from the site purchased by Morris for The Carnegie Institution, was curated by the Peabody Museum of Archaeology and Ethnology at Harvard University, Cambridge, MA, and by the University of Colorado Museum of Natural History, Boulder, CO. In February 2009, these items were transferred into the custody of the Anasazi Heritage Center in Dolores, CO. Between February 2009 and March 2013, a team of researchers at the Anasazi Heritage Center conducted an intensive non-destructive analysis of the all of the items collected by Morris and Flora at the Falls Creek Rock Shelters. This effort allowed researchers to re-associate human remains and funerary objects that had been separated and curated at different places, and to determine the unassociated funerary objects in the collection.

The human remains representing, at minimum, 49 individuals from the Falls Creek Rock Shelters include: 29 individuals from the burial crevice (individuals 1-21, and 37-44); 16 individuals from the north cave shelter (individuals 22-30, 32-36, 45 and 46); 2 individuals from the south cave shelter (individuals 31 and 47); and 2 lots of commingled, disarticulated human remains that could not be re-associated with specific individuals. No known individuals were identified. The 1,202 associated funerary objects include: 13 woven textiles (aprons, rabbit fur blankets, twined yucca bags, yucca bands, braided rabbit hair sashes); 8 baskets; 33 pieces of cordage made from human hair, yucca, and hide; 18 hide artifacts (including 2 hide wrappings); 3 mammal fur tufts; 4 stone artifacts; 2 bone artifacts; 7 plant materials (including 2 juniper bark burial coverings); 460 stone beads; 470 shell beads; 2 bone beads; 176 juniper seed beads; and 4 shell ornaments. The stone, shell, bone, juniper seed beads, and shell ornaments are from 9 separate necklaces.

The Falls Creek Rock Shelters have been identified as a Basketmaker II habitation site, with the main occupation occurring between 300 B.C. and A.D. 400, based upon tree-ring dates. Archaeological, biological, and geographic evidence, along with oral traditions, indicate that the Basketmaker II populations of the Durango/Upper Animas District, in southwest Colorado, are culturally affiliated with the modern Puebloan people (Coleman 2013: 12). This includes the modern day tribes of the Hopi Tribe of Arizona; Kewa Pueblo, New Mexico (previously listed as the Pueblo of Santo Domingo); Ohkay Owingeh, New Mexico (previously listed as the Pueblo of San Juan); Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; Ysleta del Sur Pueblo of Texas; and the Zuni Tribe of the Zuni Reservation, New Mexico (hereafter referred to as “The Tribes”).

This determination is based upon the extensive review of currently available published and unpublished sources and information provided by Indian tribes during consultations. Archaeological evidence consists of chronological data, artifacts, and rock art. Recent DNA research also demonstrates a biological affiliation between Basketmaker II populations and modern Puebloans. Hopi and Zuni oral traditions provide additional information, including geographic evidence, for cultural affiliation between Basketmaker II and the present day Puebloan people.

Determinations made by the USDA Forest Service, San Juan National Forest

Officials of the San Juan National Forest have determined that:

• Pursuant to 25 U.S.C. 3001(9), the human remains described in this notice represent the physical remains of 49 individuals of Native American ancestry.

• Pursuant to 25 U.S.C. 3001(3)(A), there are 1,202 objects that are reasonably believed to have been placed with or near individual human remains at the time of death or later as part of the death rite or ceremony.

• Pursuant to 25 U.S.C. 3001(2), there is a relationship of shared group identity that can be reasonably traced between the human remains and associated funerary objects and The Tribes.

Additional Requestors and Disposition

Lineal descendants or representatives of any Indian tribe or Native Hawaiian organization not identified in this notice that wish to request transfer of control of these human remains and associated funerary objects should submit a written request with information in support of the request to Julie Coleman, Heritage Program Manager, San Juan National Forest, 15 Burnett Court, Durango, CO 81301, telephone (970) 385-1250, email jacoleman@fs.fed.us, by July 8, 2013. After that date, if no additional requestors have come forward, transfer of control of the human remains and associated funerary objects to The Tribes may proceed.

The San Juan National Forest is responsible for notifying the Hopi Tribe of Arizona; Jicarilla Apache Nation, New Mexico; Kewa Pueblo, New Mexico (previously listed as the Pueblo of Santo Domingo); Navajo Nation, Arizona, New Mexico & Utah; Ohkay Owingeh, New Mexico (previously listed as the Pueblo of San Juan); Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; Southern Ute Indian Tribe of the Southern Ute Reservation, Colorado; Ute Indian Tribe of the Uintah & Ouray Reservation, Utah; Ute Mountain Tribe of the Ute Mountain Reservation, Colorado, New Mexico & Utah; Ysleta del Sur Pueblo of Texas; and the Zuni Tribe of the Zuni Reservation, New Mexico, that this notice has been published.

Dated: May 6, 2013.
Sherry Hutt,
Manager, National NAGPRA Program.

[FR Doc. 2013-13460 Filed 6-5-13; 8:45 am]

BILLING CODE 4312-50-P